INTERNATIONAL TRADE COMMISSION

[Investigation No. 337-TA-500]

In the Matter of Certain Purple Protective Gloves; Notice of Commission Determination Not To Review an Initial Determination Terminating the Investigation as to Respondents Medtexx Partners and Latexx Partners on the Basis of a Settlement Agreement

AGENCY: U.S. International Trade Commission.

ACTION: Notice.

SUMMARY: Notice is hereby given that the U.S. International Trade Commission has determined not to review an initial determination (“ID”) (ALJ Order No. 15) of the presiding administrative law judge (“ALJ”) in the above-captioned investigation terminating the investigation as to respondents Medtexx Partners (“Medtexx”) and Latexx Partners (“Latexx”) on the basis of a settlement agreement.

FOR FURTHER INFORMATION CONTACT: Michael Diehl, Esq., Office of the General Counsel, U.S. International Trade Commission, 500 E Street, SW., Washington, DC 20436, telephone 202-205-3095. General information concerning the Commission may also be obtained by accessing its Internet server (http://www.usitc.gov). The public record for this investigation may be viewed on the Commission's electronic docket (EDIS) at http://edis.usitc.gov. Hearing-impaired persons are advised that information on the matter can be obtained by contacting the Commission's TDD terminal on 202-205-1810. Copies of the ID and all other nonconfidential documents filed in connection with this investigation are available for inspection during official business hours (8:45 a.m. to 5:15 p.m.) in the Office of the Secretary, U.S. International Trade Commission, 500 E. Street, SW., Washington, DC 20436, telephone 202-205-2000.

SUPPLEMENTARY INFORMATION: On November 26, 2003, the Commission instituted an investigation into alleged violations of section 337 of the Tariff Act of 1930 in the importation and sale of certain purple protective gloves by reason of infringement of U.S. Registered Trademark Nos. 2,596,539, 2,533,260, and 2,593,382.

On April 28, 2004, complainants Kimberly-Clark Corporation and Safeskin Corporation (collectively “K-C/Safeskin”) and respondents Medtexx and Latexx jointly moved to terminate the investigation as to Medtexx and Latexx based on a confidential settlement agreement. K-C/Safeskin supplemented the joint motion on April 30, 2004. On May 11, 2004, the Commission investigative attorney filed a response in support of the joint motion. No other responses were received.

On May 24, 2004, the ALJ issued an ID (Order No. 15) granting the joint motion. No party petitioned for review of the ID.

This action is taken under the authority of section 337 of the Tariff Act of 1930, as amended (19 U.S.C. 1337), and section 210.42 of the Commission's Rules of Practice and Procedure (19 CFR 210.42).

By order of the Commission.
Issued: June 22, 2004.
Marilyn R. Abbott,
Secretary to the Commission.

[FR Doc. 04-14510 Filed 6-24-04; 8:45 am]

BILLING CODE 7020-02-P